DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Survey of Hawaii Resident Resource Users' Knowledge, Attitudes and Perceptions of Coral Reefs in Two Hawaii Priority Sites.

OMB Control Number: None.

Form Number(s): NA.

Type of Request: Regular submission (request for a new information collection).

Number of Respondents: 400.

Average Hours per Response: 20 minutes.

Burden Hours: 133.

Needs and Uses: The United States (U.S.) Coral Reef Task Force (USCRTF) was established in 1998 by Executive Order 13089 to lead and coordinate U.S. efforts to address the threats facing coral reefs. The Hawaii Coral Reef Working Group (CRWG), composed of key state and federal partners involved in coral reef management, was established through a local charter to provide guidance to the State of Hawaii's coral program and to prioritize sites to implement specific ridge-to-reef management activities. Priority sites are areas where coral reef ecosystems of high biological value are threatened but have strong potential for improvement with management intervention. The current two priority sites in Hawaii are South Kohala on the Big Island (Pelekane Bay-Puako-Anaeho`omalu Bay, Hawai`i) and West Maui (Ka`anapali-Kahekili, Maui). At both sites, multiple partners are collaborating to produce conservation action plans to conserve resources and human uses.

The Human Dimensions Research Program at NOAA Fisheries Pacific Islands Fisheries Science Center is initiating a survey to support development of these conservation action plans, including management actions in watersheds and in the coral reef ecosystems in the two priority sites. The purpose of this survey is to identify resident users' knowledge, attitudes, and perceptions regarding coral reef and watershed conditions and alternative management strategies to protect resources at the two priority sites.

Information from this survey is needed to inform the conservation action planning process initiated by the State of Hawaii Department of Land and Natural Resources (DLNR), Division of Aquatic Resources (HDAR) and The Nature Conservancy (TNC) at the South Kohala site and to inform conservation and watershed planning being implemented by HDAR, The U.S. Army Corps of Engineers, and other partners at the West Maui site. Managers have indicated a more immediate need for information at the South Kohala site; therefore, we will conduct the survey there first and the survey at West Maui afterwards. The information gained from the survey will provide priority site managers with essential information about the population of resident users who can both threaten reef health and play a key role in stewardship of reef resources. Conservation planners will gain information about the threats and status of coral reefs from the resident users who interact most with those systems, and help managers identify topics for public outreach and education. A representative study of resident users' knowledge, attitudes, and perceptions will supplement broader public input into the conservation planning processes at the sites.

Affected Public: Individuals or households.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: July 2, 2012.
Gwellnar Banks,
Management Analyst, Office of the Chief Information Officer.

[FR Doc. 2012-16530 Filed 7-5-12; 8:45 am]

BILLING CODE 3510-22-P